DEPARTMENT OF COMMERCE

National Oceanic and Atmospheric Administration

Proposed Information Collection; Comment Request; High Seas Fishing Permit Application Information

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 15, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Kent LaBorde, 301-427-8364 or Kent.laborde@noaa.gov.

SUPPLEMENTARY INFORMATION:

I. Abstract

United States (U.S.) vessels that fish on the high seas (waters beyond the U.S. exclusive economic zone) are required to possess a permit issued under the High Seas Fishing Compliance Act. Applicants for this permit must submit information to identify their vessels, owners and operators of the vessels, and intended fishing areas. The application information is used to process permits and to maintain a register of vessels authorized to fish on the high seas.

The HSFCA also requires vessels be marked for identification and enforcement purposes. Vessels must be marked in three locations (port and starboard sides of the deckhouse or hull, and on a weatherdeck) with their official number or radio call sign.

These requirements apply to all vessels fishing on the high seas.

II. Method of Collection

Owners or operators of high seas fishing vessels must submit paper permit application forms and paper logbook pages to NMFS. No information is submitted for the vessel marking requirement. The markings are only displayed on the vessel.

III. Data

OMB Number: 0648-0304.

Form Number: None.

Type of Review: Regular submission (extension of a currently approved information collection).

Affected Public: Business or other for-profit organizations.

Estimated Number of Respondents: 600.

Estimated Time per Response: 30 minutes per application form; for logbook reports, 6 minutes per day for days fish are caught, 1 minute per day for days when fish are not caught; 45 minutes (15 minutes for each of 3 locations) for vessel markings.

Estimated Total Annual Burden Hours: 539.

Estimated Total Annual Cost to Public: $183,876.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 9, 2018.
Sarah Brabson,
NOAA PRA Clearance Officer.

[FR Doc. 2018-17398 Filed 8-13-18; 8:45 am]

BILLING CODE 3510-22-P